NUCLEAR REGULATORY COMMISSION

Draft Regulatory Guide; Issuance; Availability

AGENCY: Nuclear Regulatory Commission.

ACTION: Draft Regulatory Guide: Issuance, Availability.

FOR FURTHER INFORMATION CONTACT: NRC Senior Program Manager, Satish Aggarwal, U.S. Nuclear Regulatory Commission, Washington, DC 20555-0001, Telephone: (301) 415-6005 or e-mail SKA@nrc.gov.

SUPPLEMENTARY INFORMATION:

I. Introduction

The U.S. Nuclear Regulatory Commission (NRC) has issued for public comment a draft of a new guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft regulatory guide, entitled “Qualification of Safety-Related Cables and Field Splices for Nuclear Power Plants,” is temporarily identified by its task number, DG-1132, which should be mentioned in all related correspondence. This proposed regulatory guide describes a method that the NRC staff considers acceptable for use in complying with the Commission's regulations in Title 10, Part 50, of the Code of Federal Regulations (10 CFR Part 50), “Domestic Licensing of Production and Utilization Facilities.” Specifically, 10 CFR Part 50 requires that structures, systems, and components that are important to safety in a nuclear power plant must be designed to accommodate the effects of environmental conditions [i.e., remain functional under postulated design-basis events (DBEs)]. Toward that end, the general requirements are contained in General Design Criteria 1, 2, 4, and 23 of Appendix A, “General Design Criteria for Nuclear Power Plants,” to 10 CFR Part 50. Augmenting those general requirements, the specific requirements pertaining to qualification of certain electrical equipment important to safety are contained in 10 CFR 50.49, “Environmental Qualification of Electric Equipment Important to Safety for Nuclear Power Plants.” In addition, Criterion III, “Design Control,” of Appendix B, “Quality Assurance Criteria for Nuclear Power Plants,” to 10 CFR Part 50, requires that where a test program is used to verify the adequacy of a specific design feature, it must include suitable qualification testing of a prototype unit under the most severe DBE.

This regulatory guide describes a method that the NRC considers acceptable for complying with the Commission's regulations for qualification of safety-related cables and field splices for nuclear power plants.

II. Further Information

The NRC is soliciting comments on Draft Regulatory Guide DG-1132. Comments may be accompanied by relevant information or supporting data, and should mention DG-1132 in the subject line. Comments submitted in writing or in electronic form will be made available to the public in their entirety through the NRC's Agencywide Documents Access and Management System (ADAMS). Personal information will not be removed from your comments. You may submit comments by any of the following methods:

1. Mail comments to: Rulemaking, Directives, and Editing Branch, Office of Administration, U.S. Nuclear Regulatory Commission, Washington, DC 20555-0001.

2. E-mail comments to: NRCREP@nrc.gov. You may also submit comments via the NRC's rulemaking Web site at: http://ruleforum.llnl.gov. Address questions about our rulemaking Web site to Carol A. Gallagher (301) 415-5905; e-mail CAG@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about Draft Regulatory Guide DG-1132 may be directed to NRC Senior Program Manager, Satish Aggarwal, at (301) 415-6005 or SKA@nrc.gov.

Comments would be most helpful if received by September 14, 2007. Comments received after that date will be considered if it is practical to do so, but the NRC is able to ensure consideration only for comments received on or before this date. Although a time limit is given, comments and suggestions in connection with items for inclusion in guides currently being developed or improvements in all published guides are encouraged at any time.

Draft Regulatory Guide DG-1132 is available electronically through the NRC's public Web site under Draft Regulatory Guides in the Regulatory Guides document collection of the NRC's Electronic Reading Room at: http://www.nrc.gov/reading-rm/doc-collections/. The guide is also available in ADAMS (http://www.nrc.gov/reading-rm/adams.html), under Accession No. ML071440445.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4209, by fax at (301) 415-3548, and by e-mail to PDR@nrc.gov.

Please note that the NRC does not intend to distribute printed copies of Draft Regulatory Guide DG-1132, unless specifically requested on an individual basis with adequate justification. Such requests for single copies of draft or final guides (which may be reproduced) should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them. (5 U.S.C. 552(a)).

Dated at Rockville, Maryland, this 5th day of July, 2007.
For the U.S. Nuclear Regulatory Commission.
Andrea Valentin,
Chief, Regulatory Guide Branch, Division of Fuel, Engineering and Radiological Research, Office of Nuclear Regulatory Research.

[FR Doc. E7-13742 Filed 7-13-07; 8:45 am]

BILLING CODE 7590-01-P